DEPARTMENT OF TRANSPORTATION

RESEARCH AND SPECIAL PROGRAMS ADMINISTRATION

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR Part 107, Subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before December 23, 2004.

Address Comments to: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemption is published in accordance with Part 107 of the Federal hazardous materials transportation law (49 U.S.C. 5117(b); 49 CFR 1.53(b)).

Issued in Washington, DC, on November 16, 2004.
R. Ryan Posten,
Exemptions Program Officer, Office of Hazardous Materials Safety Exemptions & Approvals.

New Exemption
Application number | Docket number | Applicant | Regulation(s) affected | Nature of exemption thereof
13998-N | RSPA-2004-19651 | 3AL Testing Corp. Miami, FL | 49 CFR 180.205(f)(g); 180.209(a),(b)(1)(iv); 172.203(a); 172.302a(b)(2),(4)(5) | To authorize an alternative requalification method for DOT-3A, DOT-3AA, DOT-3ADX and DOT-3AAX steel cylinders. (modes 1,3,4)
13999-N | RSPA-2004-19659 | Kompozit-Praha s.r.o. Dysina u Plzne Czech Republic | 49 CFR 173.304a(a)(1);175.3 | To authorize the manufacture, marking, sale and use of a non-DOT specification fully-wrapped fiberglass composite cylinder with a seamless, specially designed liner for use in transporting certain hydrocarbon gases. (modes 1,2,3,4)
14001-N | RSPA-2004-19646 | Koch Hyrocarbon LP Medford, OK | 49 CFR 177.834(i)(3); 177.840(q)(1) | To authorize the use of video cameras and monitors to observe the loading and unloading operations of certain hazardous materials from a remote control station in place of personnel remaining within 7.62 meters (25 feet) of cargo tank motor vehicles. (mode 1)
14002-N | RSPA-2004-19645 | BOC Gases Murray Hill, NJ | 49 CFR 178.338-11(c) | To authorize the use of a cargo tank in oxygen, refrigerated liquid service that is not equipped with a remotely controlled self closing shut-off value. (mode 1)
14003-N | RSPA-2004-19647 | INOCOM Inc. Riverside, CA | 49 CFR 173.302(a)(1), 173.304(a), 175.3 and 180.205 | To authorize the manufacture, mark, sale and use of non-DOT specification fully wrapped carbon fiber reinforced aluminum lined cylinders for the transportation in commerce of certain Division 2.2 materials. (modes 1,2,3,4,5)
14004-N | RSPA-2004-19657 | Praxair, Inc. Danbury, CT | 49 CFR 179.13 | To authorize the transportation in commerce of certain Division 2.2 gases in DOT Specification 105J500W tank cars with a maximum gross weight on rail greater than currently authorized.
14008-N | RSPA-2004-19656 | Air Products and Chemicals, Inc. Allentown, PA | 49 CFR 173.301(f)(3); 180.205(c)(4) | To authorize an alternative retesting method for DOT-3, 3A, 3AA cylinders used in transporting Division 2.1 hazardous materials. (modes 1,2,3)
14009-N |  | United States Can Company Elgin, IL | 49 CFR 178.33a-7; | To authorize the transportation in commerce of DOT-2Q receptacles with an alternative wall thickness for use in transporting ORM-D, Division 2.1 and Division 2.2. (modes 1, 2, 3, 4)
14010-N | RSPA-2004-19644 | Varsal, LLC Warminster, PA | 49 CFR 173.202 | To authorize the one-way transportation in commerce of a 50% solution of Hypophosphorous Acid in alternative UN 3H2 packagings. (mode 1)

[FR Doc. 04-25887 Filed 11-22-04; 8:45 am]

BILLING CODE 4909-60-M